DEPARTMENT OF TRANSPORTATION

Federal Railroad Administration

Petition for Waiver of Compliance

In accordance with part 211 of title 49 Code of Federal Regulations (CFR), notice is hereby given that the Federal Railroad Administration (FRA) received a request for a waiver of compliance with certain requirements of its safety standards. The individual petition is described below, including the party seeking relief, the regulatory provisions involved, the nature of the relief being requested, and the petitioner's arguments in favor of relief.

Indiana Northeastern Railroad Company (Docket Number FRA-2005-21963)

The Indiana Northeastern Railroad Company (IN) seeks a waiver of compliance from the provisions of the Track Safety Standards, 49 CFR 213.233(c), that requires a twice-weekly track inspection when operating passenger trains.

The IN, a shortline railroad operating in the states of Indiana, Ohio, and Michigan, has commenced weekend excursion passenger train operation necessitating a twice weekly track inspection required under Section 213.233(c). In its petition, the IN states that train activity increases towards the end of the week and track maintenance is generally scheduled at the beginning of the week when maximum staffing is available.

With the weekend excursions operating, the track supervisor traverses the line on each Monday to inspect the track that the passenger train will be operating over the upcoming weekend. Midweek the supervisor resumes the regular inspection of the entire line. The petitioner believes that the second inspection of the excursion trackage is redundant and adds another day to the inspection activity without any benefit.

Interested parties are invited to participate in these proceedings by submitting their written views, data, or comments. FRA does not anticipate scheduling a public hearing in connection with these proceedings since the facts do not appear to warrant a hearing. If any interested party desires an opportunity for oral comment, they should notify FRA, in writing, before the end of the comment period and specify the basis for their request.

All communication concerning these proceedings should identify the appropriate docket number (e.g., Waiver Petition Docket Number 2005-21963), and must be submitted to the Docket Clerk, DOT Docket Management Facility, Room PL-401 (Plaza Level), 400 7th Street, SW., Washington, DC 20590. Communications received within 45 days of the date of this notice will be considered by FRA before final action is taken. Comments received after that date will be considered as far as practicable. All written communications concerning these proceedings are available for examination during regular business hours (9 a.m.-5 p.m.) at the above facility. All documents in the public docket are also available for inspection and copying on the Internet at the docket facility's Web site at http://dms.dot.gov.

Issued in Washington, DC on August 25, 2005.
Grady C. Cothen, Jr.,
Deputy Associate Administrator for Safety Standards and Program Development.

[FR Doc. 05-17277 Filed 8-30-05; 8:45 am]

BILLING CODE 4910-06-P